DEPARTMENT OF COMMERCE

National Oceanic and Atmospheric Administration

[I.D. 041400C]

New England Fishery Management Council; Public Meetings

AGENCY: National Marine Fisheries Service (NMFS), National Oceanic and Atmospheric Administration (NOAA), Commerce.

ACTION: Notice of public meetings.

SUMMARY: The New England Fishery Management Council (Council) is scheduling four public meetings in May, 2000: two joint meetings of its Groundfish Committee and Advisory Panel; a meeting of the Groundfish Committee and Advisory Panel, in conjunction with the Council's Scallop Committee; and a joint Habitat Committee and Advisory Panel meeting. Recommendations from these groups will be brought to the full Council for formal consideration and action, if appropriate.

DATES: The meetings will be held between Monday, May 8, 2000 and Tuesday, May 23, 2000. See SUPPLEMENTARY INFORMATION for specific dates and times.

ADDRESSES: The meetings will be held in York Harbor, ME and Peabody, MA. See SUPPLEMENTARY INFORMATION for specific locations.

FOR FURTHER INFORMATION CONTACT: Paul J. Howard, Executive Director, New England Fishery Management Council; (978) 465-0492.

SUPPLEMENTARY INFORMATION:

Meeting Dates and Times

Monday, May 8, 2000, 9:30 a.m. and Tuesday, May 9, 2000, 8:30 a.m.—Joint Groundfish Committee and Advisory Panel Meeting

Location: York Harbor Inn, Route 1A, P.O. Box 573, York Harbor, ME 03911; telephone: (207) 363-5119.

The committee and advisors will conduct a joint meeting to continue development of management options for Amendment 13 to the Northeast Multispecies Fishery Management Plan (FMP). They will continue review of current overfishing definitions and control rules for the multispecies complex, examine the assumptions and policy decisions in those rules, and develop recommendations for the biological goals of the amendment. They also will review existing management measures and identify their strengths and weaknesses. Suggestions for improvements to those measures will be developed. They may consider options for developing an area management system, or for developing a sector allocation system. The committee and advisors also may organize into subcommittees that will be tasked to develop specific management options for consideration by the full committee. These tasks will be based on broad approaches to management selected by the committee. The subcommittees may meet individually during the meeting to begin work on these management options. The discussions at the subcommittee level will be reported back to the committee at this meeting or at future meetings.

Monday May 15, 2000, 8:30 a.m. and Tuesday, May 16, 2000, 9:30 a.m.—Joint Habitat Committee and Advisory Panel Meeting

Location: Holiday Inn, One Newbury Street, Route One, Peabody, MA 01960; telephone: (978) 535-4600.

The committee will review the 2000 Habitat Annual Review Report and develop recommendations for consideration by the Council. There also will be discussions about upcoming amendments to the Sea Scallop and Groundfish FMPs.

Monday, May 22, 2000, 9:30 a.m.—Joint Groundfish Committee and Advisory Panel Meeting

Location: Holiday Inn, One Newbury Street, Route One, Peabody, MA 01960; telephone: (978) 535-4600.

The committee and advisors will conduct a joint meeting to continue development of management options for Amendment 13 to the Northeast Multispecies FMP. If not completed at earlier meetings, they will continue their review of current overfishing definitions and control rules for the multispecies complex, examine the assumptions and policy decisions in those rules, and develop recommendations for the biological goals of the amendment. They also will review existing management measures and possibly develop alternatives. They may consider options for developing an area management system, or for developing a sector allocation management system. The committee and advisors may also organize into subcommittees that will be reported back to the Groundfish Committee at this meeting or at future meetings.

Tuesday, May 23, 2000 at 8:30 a.m.—Joint Groundfish Committee and Advisory Panel and Scallop Committee Meeting

Location: Holiday Inn, One Newbury Street, Route One, Peabody, MA 01960; telephone: (978) 535-4600.

The panel and committees will discuss Amendment 10 to the Scallop FMP. Amendment 10 considers new area rotation systems to improve scallop yield, changes to the FMP annual review process and timing, modifications to the crew size limit, and possible scallop trawl gear modifications to improve size selection. The purpose of this meeting will be to evaluate draft Amendment 10 alternatives, identify potential impacts, and recommend modifications to these conceptual alternatives so that they are recognized and managed. There is a possibility that these issues will not be fully developed for discussion, in which case the Groundfish Committee and Advisors will continue their discussion of Amendment 13 alternatives and the Scallop Oversight Committee meeting will be cancelled. If this occurs, the Council will notify interested parties through a notice mailing.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: April 17, 2000.
Richard W. Surdi,
Acting Director, Office of Sustainable Fisheries, National Marine Fisheries Service.

[FR Doc. 00-10028 Filed 4-20-00; 8:45 am]

BILLING CODE 3510-22-F